DEPARTMENT OF AGRICULTURE

Forest Service

White River National Forest; Eagle County; Colorado; Golden Peak Improvements Project

AGENCY: Forest Service, USDA.

ACTION: Notice of intent to prepare an environmental impact statement.

SUMMARY: Vail Ski Resort (Vail) has submitted a proposal to the White River National Forest (WRNF) for improvements to ski/snowboard racing facilities within its Forest Service-administered Special User Permit (SUP) area. The WRNF has accepted this proposal, and is initiating a National Environmental Policy Act (NEPA) analysis to document and disclose potential impacts. The Proposed Action includes: Developing 42 acres of new terrain with associated snowmaking; installing one lift, two lift operation shelters, one restroom facility, snowmaking infrastructure, multiple small race event buildings, one equipment storage facility, one fuel storage facility, and one maintenance building; and constructing one access road and multiple drainage management structures.

DATES: Comments concerning the scope of the analysis must be received by May 1, 2017. The draft environmental impact statement is expected October 2017 and the final environmental impact statement is expected April 2018.

ADDRESSES: Send written comments to Scott Fitzwilliams, Forest Supervisor, c/o Max Forgensi, Mountain Sports/Special Uses Administrator, White River National Forest, P.O. Box 190, Minturn, CO 81645. Comments may also be sent via FAX (970) 827-9343. Electronic comments including attachments can be submitted to: https://cara.ecosystem-management.org/Public//CommentInput?Project=47937.

FOR FURTHER INFORMATION CONTACT: Additional information related to the proposed project can be found on the project Web site: https://www.fs.usda.gov/project/?project=47937, or obtained from: Max Forgensi, Mountain Sports/Special Uses Administrator, Eagle/Holy Cross Ranger District. Mr. Forgensi can be reached by phone at (970) 827-5157 or by email at mforgensi@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Golden Peak is the primary ski/snowboard racing and training venue for Vail and the Ski and Snowboard Club Vail (SSCV), and provides a world-class venue for local athletes and international events. As local, regional, national, and international groups continue to seek areas devoted specifically to ski/snowboard racing and training, providing a contained venue with adequate facilities to serve high-caliber events is needed.

Currently, the limited training and racing space on Golden Peak is unable to accommodate all users, and many activities must be held at other locations on the mountain, resulting in a disruption to the public's skiing experience. There is a need for:

• Developed racing and training terrain at Vail that meets international racing standards for women's Downhill and men's Super G courses, a moguls course, and skier cross course to adequately meet demand.

• Adequate separation between ski/snowboard racing and training terrain and terrain used by the general public at Vail to improve the quality of both the training venue and the guest experience.

Proposed Action

The Proposed Action includes the following elements:

• Lift and Terrain—construction of one lift (either surface or aerial) and approximately 42 acres of new ski trails for women's Downhill and men's Super G courses, moguls course and skier cross course

• Facilities—construction of lift operating buildings, race start buildings, an equipment storage building, a fuel storage facility, and a maintenance building

• Snowmaking and Infrastructure—construction of infrastructure to support snowmaking on new ski trails

• Construction Maintenance and Access—access road for construction of new lift and ski trails

• Clearing, Grading and Surface Smoothing—vegetation removal and surface smoothing/grading for new ski trails and drainage management

Responsible Official

The Responsible Official is the WRNF Forest Supervisor.

Nature of Decision To Be Made

Given the purpose and need, the Responsible Official will review the proposed action, the other alternatives, and the environmental consequences in order to decide the following:

• Whether to approve, approve with modifications, or deny the application for additional ski area improvements and associated activities.

• Whether to prescribe conditions needed for the protection of the environment on NFS lands.

Scoping Process

This notice of intent initiates the scoping process, which guides the development of the environmental impact statement. The Forest Service is soliciting comments from Federal, State and local agencies and other individuals or organizations that may be interested in or affected by implementation of the proposed projects. One public open house regarding this proposal will be held on April 6, 2017 from 5:30 p.m. to 7:30 p.m. at the Forest Service Holy Cross Office, 24747 US Highway 24, Minturn, Colorado 81645. Representatives from the WRNF and Vail Resort will be present to answer questions and provide additional information on this project.

To be most helpful, comments should be specific to the project area and should identify resources or effects that should be considered by the Forest Service. Submitting timely, specific written comments during this scoping period or any other official comment period establishes standing for filing objections under 36 CFR parts 218 A and B.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: March 24, 2017.
Glenn P. Casamassa,
Associate Deputy Chief, National Forest System.

[FR Doc. 2017-06310 Filed 3-29-17; 8:45 am]

BILLING CODE 3411-15-P